NATIONAL SCIENCE FOUNDATION

Notice of Permit Applications Received Under the Antarctic Conservation Act of 1978 (Pub. L. 95-541)

AGENCY: National Science Foundation.

ACTION: Notice of Permit Applications Received Under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by April 17, 2014. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Polly Penhale, ACA Permit Officer, at the above address or ACApermits@nsf.gov or (703) 292-7420.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

1. Applicant: Permit Application: 2014-030

Prof. Chi-Hing Christina Cheng

Department of Animal Biology, University of Illinois, Urbana-Champaign, IL

Activity for Which Permit Is Requested

ASPA, Import into USA: This permit would allow entry into ASPA 153 Eastern Dallmann Bay and ASPA 152 Western Bransfield Strait for the purpose of collecting a small number of icefish species via trawling and trapping for a study on freezing avoidance and evolutionary cold adaptation in Antarctic fishes. Some whole, frozen individuals as well as tissue samples would be imported back into the U.S.A. for physiological, biochemical, and molecular studies. Port of Entry is Port Hueneme, CA.

Location

Antarctic Specially Protected Area No. 153, Eastern Dallmann Bay; and Antarctic Specially Protected Area No. 152, Western Bransfield Strait (Area around Low Island).

Dates

June 21, 2014 to October 21, 2014.

Nadene G. Kennedy,
Polar Coordination Specialist, Division of Polar Programs.

[FR Doc. 2014-05881 Filed 3-17-14; 8:45 am]

BILLING CODE 7555-01-P